Title 3—

The President

Proclamation 8610 of December 1, 2010

National Impaired Driving Prevention Month, 2010

By the President of the United States of America

A Proclamation

Every day, millions of Americans travel on our Nation’s roadways. Thousands of these drivers and passengers tragically lose their lives each year because of drunk, drugged, or distracted driving. During National Impaired Driving Prevention Month, we recommit to preventing the loss of life by practicing safe driving practices and reminding others to be sober, drug-free, and safe on the road.

Impaired driving and its consequences can seriously alter or even destroy lives and property in a moment. This reckless behavior not only includes drunk driving, but also the growing problem of drugged driving. Drugs, including those prescribed by a physician, can impair judgment and motor skills. It is critical that we encourage our young people and fellow citizens to make responsible decisions when driving or riding as a passenger, especially if drug use is apparent.

This National Impaired Driving Prevention Month, we must also draw attention to the dangers of distracted driving, including using electronic equipment or texting while behind the wheel of a vehicle. When people take their attention away from the road to answer a call, respond to a message, or use a device, they put themselves and others at risk. Distracted driving is a serious, life-threatening practice, and I encourage everyone to visit Distraction.gov to learn how to prevent distracted driving.

My Administration is dedicated to strengthening efforts against drunk, drugged, and distracted driving. To lead by example, we have implemented a nationwide ban prohibiting Federal employees from texting while driving on Government business or when using a Government device. This holiday season, the United States Department of Transportation’s National Highway Traffic Safety Administration is also sponsoring the campaign, “Drunk Driving: Over the Limit. Under Arrest.” Thousands of police departments and law enforcement agencies across the Nation will redouble their efforts to ensure impaired drivers are detected and appropriate action is taken. Additionally, the Office of National Drug Control Policy is working with Federal agencies to raise public awareness about the high prevalence of drugged driving in our country, and to provide resources for parents of new drivers about how to talk to their children about drugs.

As responsible citizens, we must not wait until tragedy strikes, and we must take an active role in preventing debilitated driving. Individuals, families, businesses, community organizations, drug-free coalitions, and faith-based groups can promote substance abuse prevention and encourage alternative sources of transportation. By working together, we can help save countless lives and make America’s roadways safer for all.

NOW, THEREFORE, I, BARACK OBAMA, President of the United States of America, by virtue of the authority vested in me by the Constitution and the laws of the United States, do hereby proclaim December 2010 as National Impaired Driving Prevention Month. I urge all Americans to make responsible decisions and take appropriate measures to prevent impaired driving.

IN WITNESS WHEREOF, I have hereunto set my hand this first day of December, in the year of our Lord two thousand ten, and of the Independence of the United States of America the two hundred and thirty-fifth.

[FR Doc. 2010-30802

Filed 12-6-10; 8:45 am]

Billing code 3195-W1-P